DEPARTMENT OF HOMELAND SECURITY

[Docket No. CISA-2024-0038]

Agency Information Collection Activities: Office for Bombing Prevention—Technical Analytics

AGENCY: Cybersecurity and Infrastructure Security Agency (CISA), Department of Homeland Security (DHS).

ACTION: 60-Day notice and request for comments; information collection request, 1670-0028 for reinstatement with changes.

SUMMARY: The Office For Bombing Prevention (OBP) within Cybersecurity and Infrastructure Security Agency (CISA) will submit the following information collection request (ICR) to the Office of Management and Budget (OMB) for review.

DATES: Comments are encouraged and will be accepted until March 11, 2025.

ADDRESSES: You may submit comments, identified by docket number Docket # CISA-2024-0038, at:

○ Federal eRulemaking Portal: http://www.regulations.gov. Please follow the instructions for submitting comments.

Instructions: All submissions received must include the agency name and docket number Docket # CISA-2024-0038. All comments received will be posted without change to http://www.regulations.govhttp://www.regulations.gov, including any personal information provided.

Docket: For access to the docket to read background documents or comments received, go to http://www.regulations.gov.

SUPPLEMENTARY INFORMATION:

Technical Resource for Incident Prevention (TRIPwire)

TRIPwire (Technical Resource for Incident Prevention) is the Department of Homeland Security's online, collaborative information-sharing network for bomb technicians, first responders, military personnel, government officials, intelligence analysts, and select private sector security professionals to increase awareness of evolving improvised explosive device (IED) tactics, techniques, and procedures, as well as incident lessons learned and counter-IED preparedness information. Developed and maintained by OBP, the TRIPwire system combines expert analysis and reports with relevant documents, images, and videos gathered from publicly available sources to help users anticipate, identify, and prevent IED incidents.

Users from federal, state, local, and tribal government entities, as well as business and/or other for-profit industries, can register for TRIPwire access. The TRIPwire portal contains sensitive information related to the criminal use of explosives by threat actors, including violent, malicious organizations, which requires a limited, controlled means of dissemination—such as designations of “For Official Use Only,” “Law Enforcement Sensitive,” or “Controlled Unclassified Information.” Therefore, CISA must collect user information in order to verify an individual's eligibility to access the TRIPwire system.

In addition to new user registrations, CISA will also seek feedback from TRIPwire users via a questionnaire and will request that TRIPwire users revalidate their access status on an annual basis. All information collected/provided pursuant to this ICR will be done so on a strictly voluntary basis.

This collection of information is consistent with CISA's statutory authorities to provide assistance to federal and non-federal entities to enhance the security and resiliency of critical infrastructure, including the authority provided by 6 U.S.C. 652(c)(5), (11) and 6 U.S.C. 652(e)(1)(C).

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

This is a reinstatement of an existing collection (1670-0028) with changes to the information collection.

Analysis

Agency: Cybersecurity and Infrastructure Security Agency (CISA), Department of Homeland Security (DHS).

Title: Office for Bombing Prevention Technical Analytics.

OMB Number: 1670-0028.

Frequency: Quarterly to annually.

Affected Public: Federal, state, local, and tribal government entities, and business or other for-profit.

Number of Respondents: 4,333.

Estimated Time per Respondent: 5 minutes.

Total Burden Hours: 422 Hours.

Total Burden Cost: $13,736.

Total Annualized Government Cost: $7,447.

Robert J. Costello,
Chief Information Officer, Department of Homeland Security, Cybersecurity and Infrastructure Security Agency.

[FR Doc. 2025-00366 Filed 1-8-25; 8:45 am]

BILLING CODE 9111-LF-P